DEPARTMENT OF LABOR

Occupational Safety and Health Administration

[Docket No. OSHA-2010-0031]

Federal Advisory Council on Occupational Safety and Health (FACOSH)

AGENCY: Occupational Safety and Health Administration (OSHA), Labor.

ACTION: Announcement of meeting and member appointments.

SUMMARY: The Federal Advisory Council on Occupational Safety and Health (FACOSH) will meet October 21, 2010, in Washington, DC. FACOSH is comprised of 16 members; eight representing federal agency management and eight from labor organizations representing federal employees. On July 1, 2010, the Secretary appointed eight persons to FACOSH. This Federal Register notice also announces these appointments.

DATES: FACOSH meeting: FACOSH will meet from 1 p.m. to 4:30 p.m., Thursday, October 21, 2010.

Submission of comments, requests to speak, and requests for special accommodations: Comments, requests to speak at the FACOSH meeting, and request for special accommodations to attend the FACOSH meeting must be submitted (postmarked, sent, transmitted) by October 14, 2010.

ADDRESSES: FACOSH meeting: FACOSH will meet in the Great Hall, U.S. Department of Labor, 200 Constitution Avenue, NW., Washington, DC 20210.

Submission of comments and requests to speak: Comments and requests to speak at the FACOSH meeting, identified by Docket No. OSHA-2010-0031, may be submitted by any of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Mail, express delivery, hand delivery, messenger or courier service: You must provide one copy of your submission to the OSHA Docket Office, Room N-2625, U.S. Department of Labor, 200 Constitution Avenue, NW., Washington, DC 20210; telephone (202) 693-2350 (TTY (877) 889-5627). Deliveries (hand, express mail, messenger and courier service) are accepted during the Department of Labor's and OSHA Docket Office's normal business hours, 8:15 a.m.-4:45 p.m., e.t.

Requests for special accommodations for FACOSH meeting: Submit requests for special accommodations by telephone, e-mail or hard copy to Ms. Veneta Chatmon, OSHA, Office of Communications, Room N-3647, U.S. Department of Labor, 200 Constitution Avenue, NW., Washington, DC 20210; telephone (202) 693-1999; e-mail chatmon.veneta@dol.gov.

Instructions: All submissions must include the Agency name and docket number for this Federal Register notice (Docket No. OSHA-2010-0031). Because of security-related procedures, submissions by regular mail may result in a significant delay in their receipt. Please contact the OSHA Docket Office, at the address above, for information about security procedures for making submissions by hand delivery, express delivery, and messenger or courier service. For additional information on submitting comments and requests to speak, see the SUPPLEMENTARY INFORMATION section below.

Comments and requests to speak, including any personal information provided, will be posted without change at http://www.regulations.gov. Therefore, OSHA cautions interested parties about submitting certain personal information such as social security numbers and birthdates.

Docket: To read or download submissions in response to this Federal Register notice, go to Docket No. OSHA-2010-0031 at http://www.regulations.gov or the OSHA Docket Office at the address above. All documents in the docket are listed in the http://www.regulations.gov index. Although listed in the index, some documents (e.g., copyrighted material) are not publicly available to read or download through http://www.regulations.gov. All submissions, including copyrighted material, are available for inspection and copying at the OSHA Docket Office.

FOR FURTHER INFORMATION CONTACT: For press inquiries: Ms. MaryAnn Garrahan, OSHA, Office of Communications, U.S. Department of Labor, Room N-3647, 200 Constitution Avenue, NW., Washington, DC 20210; telephone (202) 693-1999.

For general information: Mr. Francis Yebesi, OSHA, Office of Federal Agency Programs, U.S. Department of Labor, Room N-3622, 200 Constitution Avenue, NW., Washington, DC 20210; telephone (202) 693-2122; e-mail ofap@dol.gov.

SUPPLEMENTARY INFORMATION:

FACOSH Meeting

FACOSH will meet Thursday, October 21, 2010, in Washington, DC. All FACOSH meetings are open to the public.

FACOSH is authorized by 5 U.S.C. 7902, section 19 of the Occupational Safety and Health Act of 1970 (OSH Act) (29 U.S.C. 668), and Executive Order 12196 to advise the Secretary of Labor (Secretary) on all matters relating to the occupational safety and health of Federal employees. This includes providing advice on how to reduce and keep to a minimum the number of injuries and illnesses in the Federal workforce and how to encourage each Federal Executive Branch Department and Agency to establish and maintain effective occupational safety and health programs. The tentative agenda for the FACOSH meeting includes:

• Federal Advisory Committee Act requirements;

• New FACOSH Bylaws and Operating Procedures;

• Emerging Issues Subcommittee update;

• Strategic Planning to determine priorities for FACOSH, including consideration of: Permissible Exposure Limits (PELs) in federal agencies; OSHA overseas coverage of Federal civilian employees; motor vehicle safety for the Federal workforce; outreach and training; and any other issues identified by FACOSH.

FACOSH meetings are transcribed and detailed minutes of the meetings are prepared. Meeting transcripts, minutes and other materials presented at the meeting are included in the FACOSH meeting record, which is posted at http://www.regulations.gov.

Public Participation

FACOSH meetings are open to the public. Interested persons may submit a request to make an oral presentation to FACOSH by one of the methods listed in the ADDRESSES section. The request must state the amount of time requested to speak, the interest represented (e.g., organization name), if any, and a brief outline of the presentation. Requests to address FACOSH may be granted as time permits and at the discretion of the FACOSH chair.

Interested persons also may submit comments, including data and other information, using any of the methods listed in the ADDRESSES section. OSHA will provide all submissions to FACOSH members prior to the meeting and put them in the public docket for that meeting.

Individuals who need special accommodations and wish to attend the FACOSH meeting must contact Ms. Chatmon by any of the methods listed in the ADDRESSES section.

Submissions and Access to Meeting Record

You may submit comments, requests to speak and requests for special accommodations (1) electronically, (2) by facsimile, or (3) by hard copy. All submissions, including attachments and other materials, must identify the Agency name and the OSHA docket number for this notice (Docket No. OSHA-2010-0031). You may supplement electronic submissions by uploading documents electronically. If, instead, you wish to submit hard copies of supplementary documents, you must submit one copy to the OSHA Docket Office using the instructions in the ADDRESSES section. The additional materials must clearly identify your electronic submission by name, date and docket number.

Because of security-related procedures, the use of regular mail may cause a significant delay in the receipt of submissions. For information about security procedures concerning the delivery of submissions by hand, express delivery, messenger or courier service, please contact the OSHA Docket Office at (202) 693-2350 (TTY (877) 889-5627).

Meeting transcripts and minutes as well as written comments and requests to speak are included in the public record of the FACOSH meeting (Docket No. OSHA-2010-0031). Written comments and requests to speak are posted without change at http://www.regulations.gov. Therefore, OSHA cautions interested parties about submitting certain personal information such as Social Security numbers and birthdates. Although all submissions are listed in the http://www.regulations.gov index, some documents (e.g., copyrighted material) are not publicly available to read or download through that Web page. All submissions, including copyrighted material, are available for inspection and copying at the OSHA Docket Office.

Information on using the http://www.regulations.gov to make submissions and to access the docket and exhibits is available at that Web page. Contact the OSHA Docket Office for information about materials not available through the Web page and for assistance in using the Internet to locate submissions and other documents in the docket.

Electronic copies of this Federal Register notice are available at http://www.regulations.gov. This notice, as well as news releases and other relevant information, is also available at OSHA's Web page at http://www.osha.gov.

Announcement of FACOSH Appointments

FACOSH is comprised of 16 members; eight representing federal agency management and eight from labor organizations representing federal employees. On July 1, 2010, the Secretary appointed eight persons to FACOSH. The Secretary appointed the following persons from labor organizations representing Federal employees:

• William Dougan, National Federation of Federal Employees;

• Deborah Kleinberg, Seafarers International Union;

• Colleen Kelly, National Treasury Employees Union;

• William Kojola, AFL-CIO; and

• William “Chico” McGill, International Brotherhood of Electrical Workers.

The Secretary appointed the following persons as representatives of Federal agency management:

• Curtis Bowling, U.S. Department of Defense;

• John Sepulveda, U.S. Department of Veterans Affairs; and

• Thomas Yun, U.S. Department of State.

In addition, the Secretary has appointed Robin Heard, U.S. Department of Agriculture (USDA), to complete the unexpired term of a FACOSH management member from the USDA who is no longer able to serve on the Council.

Authority and Signature

David Michaels, PhD, MPH, Assistant Secretary of Labor for Occupational Safety and Health, directed the preparation of this notice under the authority granted by section 19 of the Occupational Safety and Health Act of 1970 (OSH Act) (29 U.S.C. 668), 5 U.S.C. 7902, the Federal Advisory Committee Act (5 U.S.C. App. 2) and regulations issued under FACA (41 CFR part 102-3), section 1-5 of Executive Order 12196, and Secretary of Labor's Order No. 4-2010 (75 FR 55335 (9/10/2010)).

Signed at Washington, DC, this fourth day of October, 2010.
David Michaels,
Assistant Secretary of Labor for Occupational Safety and Health.

[FR Doc. 2010-25268 Filed 10-6-10; 8:45 am]

BILLING CODE 4510-26-P